DEPARTMENT OF LABOR

Employment and Training Administration

[TA-W-39,946]

Valley Machine Company, Rock Valley, IA; Dismissal of Application for Reconsideration

Pursuant to 29 CFR 90.18(C) an application for administrative reconsideration was filed with the Director of the Division of Trade Adjustment Assistance for workers at Valley Machine Company, Rock Valley, Iowa. The application contained no new substantial information which would bear importantly on the Department's determination. Therefore, dismissal of the application was issued.

TA-W-39,946; Valley Machine Company, Rock Valley, Iowa (February 15, 2002)

Signed at Washington, DC this 1st day of March, 2002.
Edward A. Tomchick,
Director, Division of Trade Adjustment Assistance.

[FR Doc. 02-5577 Filed 3-7-02; 8:45 am]

BILLING CODE 4510-30-M